DEPARTMENT OF LABOR

Mine Safety and Health Administration

[OMB Control No. 1219-0020]

Proposed Extension of Information Collection: Operations Mining Under a Body of Water

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Operations Mining Under a Body of Water.”

DATES: All comments must be received on or before September 2, 2025.

ADDRESSES: Comments concerning the information collection requirements of this notice may be sent by any of the methods listed below. Please note that late comments received after the deadline will not be considered.

• Federal E-Rulemaking Portal: https://www.regulations.gov. Follow the on-line instructions for submitting comments for docket number MSHA-2025-0051.

• Mail/Hand Delivery: DOL-MSHA, Office of Standards, Regulations, and Variances, 200 Constitution Avenue NW, Room C3522, Washington, DC 20210. Before visiting MSHA in person, call 202-693-9455 to make an appointment.

• MSHA will post all comments as well as any attachments, except for information submitted and marked as confidential, in the docket at https://www.regulations.gov.

FOR FURTHER INFORMATION CONTACT: Jessica Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal, and nonmetal mines.

The Paperwork Reduction Act of 1995 (PRA) governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandates to promote miners' health and safety, MSHA requires the information collected under the information collection request (ICR) titled “Operations Mining Under a Body of Water.” This information collection is intended to ensure that underground coal mine operators apply for a permit before mining under bodies of water. MSHA reviews mine operators' applications and issues permits to protect miners from hazards such as flooding, cave-ins, and drowning.

Burden Costs Associated With This ICR Include:

1. Mine operators preparing and submitting applications for permits to work under a body of water; and

2. MSHA reviewing applications and issuing permits to work under a body of water.

Authorization and the associated rule text are described below.

1. Mine Operators Preparing and Submitting Applications for Permits To Work Under a Body of Water (30 CFR 75.1716-1, 75.1716-2, and 75.1716-3)

Under 30 CFR 75.1716-1, whenever an operator plans to mine coal from a coal mine opened after March 30, 1970, or from any working section in a mine opened prior to such date, and in such manner that mining operations will be conducted, or tunnels constructed, under any river, stream, lake, or other body of water, the coal mine operator must give notice to the District Manager prior to the commencement of coal mining operations.

Under 30 CFR 75.1716-2, if in the judgment of the District Manager the proposed mining operations constitute a hazard to miners, the District Manager must promptly notify the operator that a permit is required.

Under 30 CFR 75.1716-3, an application for a permit must be filed with the District Manager and must contain the following general information:

(a) Name and address of the company.

(b) Name and address of the mine.

(c) Projected mining and ground support plans.

(d) A mine map showing the location of the river, stream, lake, or other body of water and its relation to the location of all working places.

(e) A profile map showing the type of strata and the distance in elevation between the coal bed and the river, stream, lake or other body of water involved. The type of strata will be determined by core test drill holes as prescribed by the District Manager.

2. MSHA Reviewing Applications and Issuing Permits To Work Under a Body of Water (30 CFR 75.1716-4)

Under 30 CFR 75.1716-4, if the District Manager determines that the proposed mining operations under water can be safely conducted, the District Manager must issue a permit for conducting the proposed mining operations under the terms and conditions deemed necessary to protect the safety of miners engaged in operations.

II. Desired Focus of Comments

MSHA is soliciting comments concerning the proposed information collection titled “Operations Mining Under a Body of Water.” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The ICR is available on https://www.regulations.gov. MSHA cautions commenters against providing any information in their submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9455 to make an appointment.

Questions about the ICR may be directed to the person listed in the FOR FURTHER INFORMATION section of this notice.

III. Current Actions

This ICR concerns provisions for Operations Mining Under a Body of Water. MSHA has updated the data with respect to the number of respondents, responses, time burden, and burden costs supporting this ICR from the previous information collection request.

Type of Review: Extension, without change, of a currently approved collection.

Agency: Mine Safety and Health Administration.

OMB Number: 1219-0020.

Affected Public: Business or other for-profit entity.

Number of Annual Respondents: 99.

Frequency: On Occasion.

Number of Annual Responses: 50.

Annual Time Burden: 275 hours.

Annual Other Burden Costs: $300.

Comments submitted in response to this notice will be summarized and included in the request for Office of Management and Budget approval of the proposed ICR; they will become a matter of public record and be available at https://www.reginfo.gov.

Jessica Senk,
Certifying Officer, Mine Safety and Health Administration.

[FR Doc. 2025-12440 Filed 7-2-25; 8:45 am]

BILLING CODE 4510-43-P